DEPARTMENT OF HOMELAND SECURITY

Coast Guard

33 CFR Part 100

[Docket No. USCG-2012-0953]

Special Local Regulation; Southern California Annual Marine Events for the San Diego Captain of the Port Zone

AGENCY: Coast Guard, DHS.

ACTION: Notice of enforcement of regulation.

SUMMARY: The Coast Guard will enforce special local regulations during the San Diego Parade of Lights, held on December 09 and December 16, 2012 from 5:30 p.m. to 8:30 p.m. on the San Diego Bay. These special local regulations are necessary to provide for the safety of the participants, crew, spectators, sponsor vessels of the regatta, and general users of the waterway. During the enforcement period, persons and vessels are prohibited from entering into, transiting through, or anchoring within this safety zone unless authorized by the Captain of the Port, or his designated representative.

DATES: The regulations in 33 CFR 100.1101 will be enforced on December 9 and December 16, 2012 from 5:30 p.m. until 8:30 p.m. each day.

FOR FURTHER INFORMATION CONTACT: If you have questions on this notice, call or email Petty Officer Bryan Gollogly, Waterways Management, U.S. Coast Guard Sector San Diego, CA; telephone (619) 278-7656, email D11-PF-MarineEventsSanDiego@uscg.mil.

SUPPLEMENTARY INFORMATION: The Coast Guard will enforce the special local regulations in 33 CFR 100.1101 in support of the San Diego Parade of Lights (Item 5 on Table 1 of 33 CFR 100.1101). The Coast Guard will enforce the special local regulations between the northern portion of the San Diego Bay ship channel from Seaport Village to the Shelter Island Basin on December 09 and on December 16, 2012 from 5:30 p.m. until 8:30 p.m. each day. The event consists of approximately eighty paddle, powerboats, and sailboats, ranging from ten to eighty feet in length outfitted with Christmas lights. The participating vessels will start near the west side of Shelter Island, proceed to the Coronado Bay Bridge, cross the main shipping channel, and finish in the vicinity of the USN Carrier Basin.

Under the provisions of 33 CFR 100.1101, persons and vessels are prohibited from entering into, transiting through, or anchoring within this safety zone unless authorized by the Captain of the Port, or his designated representative. The Coast Guard may be assisted by other Federal, State, or local law enforcement agencies in enforcing this regulation.

This notice is issued under authority of 33 CFR 100.1101 and 5 U.S.C. 552(a). In addition to this notice in the Federal Register, the Coast Guard will provide the maritime community with extensive advance notification of this enforcement period via the Local Notice to Mariners, Broadcast Notice to Mariners, state, or local agencies.

Dated: November 18, 2012.
S.M. Mahoney,
Captain of the Port San Diego, United States Coast Guard.

[FR Doc. 2012-29594 Filed 12-6-12; 8:45 am]

BILLING CODE 9110-04-P